DEPARTMENT OF DEFENSE

Office of the Secretary

[Docket ID: DoD-2009-OS-0123]

Privacy Act of 1974; Systems of Records

AGENCY: Defense Finance and Accounting Service, DoD.

ACTION: Notice to Amend a System of Records.

SUMMARY: The Defense Finance and Accounting Service (DFAS) is proposing to amend systems of records notices in its inventory of record systems subject to the Privacy Act of 1974 (5 U.S.C. 552a), as amended.

DATES: This proposed action will be effective without further notice on September 8, 2009 unless comments are received which would result in a contrary determination.

ADDRESSES: Send comments to the Defense Finance and Accounting Service, FOIA/PA Program Manager, Corporate Communications and Legislative Liaison, 8899 E. 56th Street, Indianapolis, IN 46249-0150.

FOR FURTHER INFORMATION CONTACT: Ms. Linda Krabbenhoft at (303) 589-3510.

SUPPLEMENTARY INFORMATION: The Defense Finance and Accounting Service systems of notices subject to the Privacy Act of 1974 (5 U.S.C. 552a), as amended, have been published in the Federal Register and are available from the address above.

The specific changes to the records systems being amended are set forth below followed by the notices, as amended, published in their entirety. The proposed amendments are not within the purview of subsection (r) of the Privacy Act of 1974 (5 U.S.C. 552a), as amended, which requires the submission of a new or altered system report.

Dated: July 28, 2009.
Patricia L. Toppings,
OSD Federal Register Liaison Officer, Department of Defense.

T1205

System Name:

Junior Reserve Officer Training Corps Payment Reimbursement System (April 28, 2000, 65 FR 24935).

Changes:

* * * * *

System Location:

Delete entry and replace with “Defense Finance and Accounting Service, 8899 East 56th Street, Indianapolis, IN 46269-0002.”

* * * * *

Authority for Maintenance of the System:

Delete entry and replace with “10 U.S.C. 2031, as amended, Junior Reserve Officers' Training Corps, Reserve Officers' Training Corps Program for Secondary Educational Institutions; DoD Instruction 1205.13, Junior Reserve Officers Training Corps Program; DoDFMR 7000.14-R, Volume 10, Chapter 21; Headquarters, Defense Finance and Accounting Service, Memorandum of April 10, 1996; (Department of the Navy, Headquarters, U.S. Marine Corps, Memorandum of April 26, 1996; Department of the Navy, Office of the Assistant Secretary, Memorandum of June 21, 1996; Department of the Navy, Office of the Assistant Secretary, Memorandum of June 21, 1996, and E.O. 9397 (SSN), as amended.”

Purpose(s):

Delete entry and replace with “The purpose of this system is as follows:

To accomplish payroll computations and the reimbursement portion of the Junior Reserve Officer Training Corps Instructor Program.

To provide statements and/or reports to each instructor and school/school district.

To answer inquiries from applicable Services and/or financial institution where funds were distributed.

To provide information required by an auditor during an audit of the program.

To assist the Services with audit of individual instructor, school, and/or school district.”

Routine Uses of Records Maintained in the System, Including Categories of Users and the Purpose of Such Uses:

Delete entry and replace with “In addition to those disclosures generally permitted under 5 U.S.C. 552a(b) of the Privacy Act of 1974, these records contained therein may specifically be disclosed outside the DoD as a routine use pursuant to 5 U.S.C. 552a(b)(3) as follows:

To the school/school district to provide information regarding the instructor's computed minimum instructor pay, and the amount being reimbursed by the applicable Military Service.

To the Treasury Department to provide information on check issues and electronic funds transfers.

To the Federal Reserve Banks to distribute payments made through the direct deposit system to financial organizations or their processing agents authorized by individuals to receive and deposit payments in their accounts.

The DoD “Blanket Routine Uses” published at the beginning of the DFAS compilation of systems of records notices also apply to this system.

* * * * *

Storage:

Delete entry and replace with “The records are hard copy documents or electronic storage media.”

Retrievability:

Delete entry and replace with “Name and Social Security Number.”

Safeguards:

Delete entry and replace with “Records are stored in an office building protected by guards, controlled screening, use of visitor registers, electronic access, and/or locks. Access to records is limited to authorized individuals who are properly screened and cleared on a need-to-know basis in the performance of their official duties. Passwords and digital signatures are used to control access to the system data, and procedures are in place to deter and detect browsing and unauthorized access. Physical and electronic access are limited to persons responsible for servicing and authorized to use the system.”

Retention and Disposal:

Delete entry and replace with “Records are cut off at the end of each month or the end of each fiscal year and then maintained for 1 year or up to 6 years and 3 months from date of cutoff. Destruction is by tearing, shredding, pulping, macerating, or burning.”

System Manager(s) and Address:

Delete entry and replace with “Deputy Director, Air Force Military Pay Operations, Defense Finance and Accounting Service, 8899 East 56th Street, Indianapolis, IN 46249-0002.”

Notification Procedure:

Delete entry and replace with “Individuals seeking to determine whether information about themselves is contained in this system of records should address written inquiries to the Defense Finance and Accounting Service, Freedom of Information/Privacy Act Program Manager, Corporate Communications and Legislative Liaison, 8899 E. 56th Street, Indianapolis, IN 46249-0150.

Individuals should furnish full name, Social Security Number, current address, telephone number.”

Record Access Procedures:

Delete entry and replace with “Individuals seeking access to information about them contained in this system of records should address written inquiries to the Defense Finance and Accounting Service, Freedom of Information/Privacy Act Program Manager, Corporate Communications and Legislative Liaison, 8899 E. 56th Street, Indianapolis, IN 46249-0150.

Individuals should furnish full name, Social Security Number, current address, telephone number.”

Contesting Record Procedures:

Delete entry and replace with “The DFAS rules for accessing records, for contesting contents and appealing initial agency determinations are published in DFAS Regulation 5400.11-R; 32 CFR part 324; or may be obtained from the Freedom of Information/Privacy Act Program Manager, Corporate Communications and Legislative Liaison, 8899 E. 56th Street, Indianapolis, IN 46249-0150.”

Record Source Categories:

Delete entry and replace with “Individuals; school/school district offices; applicable Military Services; and the Defense Retiree and Annuitant (Pay) System (DRAS).”

* * * * *

T1205

System Name:

Junior Reserve Officer Training Corps Payment Reimbursement System.

System Location(s):

Defense Finance and Accounting Service, 8899 East 56th Street, Indianapolis, IN 46269-0002.

Categories of Individuals Covered by the System:

All military retirees who participate in the Junior Reserve Officer Training Corps (JROTC) Instructor Program at selected high schools within the continental United States and various overseas locations.

Categories of Records in the System:

Personal information regarding name, Social Security Number, school/school district name and address, applicable active duty entitlement amounts, and current gross retired pay amounts. Military Services' applicable contribution percentage, gross and net contribution percentage, gross and net contribution amounts, and current employment period beginning and closing dates.

Authority for Maintenance of the System:

10 U.S.C. 2031, as amended, Junior Reserve Officers' Training Corps, Reserve Officers' Training Corps Program for Secondary Educational Institutions; DoD Instruction 1205.13, Junior Reserve Officers Training Corps Program; DoDFMR 7000.14-R, Volume 10, Chapter 21; Headquarters, Defense Finance and Accounting Service, Memorandum of April 10, 1996; (Department of the Navy, Headquarters, U.S. Marine Corps, Memorandum of April 26, 1996; Department of the Navy, Office of the Assistant Secretary, Memorandum of June 21, 1996; Department of the Navy, Office of the Assistant Secretary, Memorandum of June 21, 1996, and E.O. 9397 (SSN), as amended.

Purpose(s):

The purpose of this system is as follows:

To accomplish payroll computations and the reimbursement portion of the Junior Reserve Officer Training Corps Instructor Program.

To provide statements and/or reports to each instructor and school/school district.

To answer inquiries from applicable Services and/or financial institution where funds were distributed.

To provide information required by an auditor during an audit of the program.

To assist the Services with audit of individual instructor, school, and/or school district.

Routine Uses of Records Maintained in the System, Including Categories of Users and the Purpose of Such Uses:

In addition to those disclosures generally permitted under 5 U.S.C. 552a(b) of the Privacy Act, these records contained therein may specifically be disclosed outside the DoD as a routine use pursuant to 5 U.S.C. 552a(b)(3) as follows:

To the school/school district to provide information regarding the instructor's computed minimum instructor pay, and the amount being reimbursed by the applicable Military Service.

To the Treasury Department to provide information on check issues and electronic funds transfers.

To the Federal Reserve Banks to distribute payments made through the direct deposit system to financial organizations or their processing agents authorized by individuals to receive and deposit payments in their accounts.

The DoD “Blanket Routine Uses” published at the beginning of the DFAS compilation of systems of records notices also apply to this system.

Disclosure to Consumer Reporting Agencies:

Disclosures pursuant to 5 U.S.C. 552a(b)(12) may be made from this system to “consumer reporting agencies” as defined in the Fair Credit Reporting Act, 15 U.S.C. 1681a(f) or the Federal Claims Collection Act of 1966, 31 U.S.C. 3701(a)(3). The purpose of the disclosure is to aid in the collection of outstanding debts owed to the Federal Government; typically, to provide an incentive for debtors to repay delinquent Federal Government debts by making these debts part of their credit records.

The disclosure is limited to information necessary to establish the identity of the individual, including name, address, and taxpayer identification number (Social Security Number); the amount, status, and history of the claim; and the agency or program under which the claim arose.

Policies and Practices for Storing, Retrieving, Accessing, Retaining, and Disposition of Records in the System:

Storage:

The records are hard copy documents or electronic storage media.

Retrievability:

Name and Social Security Number.

Safeguards:

Records are stored in an office building protected by guards, controlled screening, use of visitor registers, electronic access, and/or locks. Access to records is limited to authorized individuals who are properly screened and cleared on a need-to-know basis in the performance of their official duties. Passwords and digital signatures are used to control access to the system data, and procedures are in place to deter and detect browsing and unauthorized access. Physical and electronic access are limited to persons responsible for servicing and authorized to use the system.

Retention and Disposal:

Records are cut off at the end of each month or the end of each fiscal year and then maintained for 1 year or up to 6 years and 3 months from date of cut off. Destruction is by tearing, shredding, pulping, macerating, or burning.

System Manager(S) and Address:

Deputy Director, Air Force Military Pay Operations, Defense Finance and Accounting Service, 8899 E. 56th Street, Indianapolis, IN 46249-0002.

Notification Procedure:

Individuals seeking to determine whether information about themselves is contained in this system of records should address written inquiries to the Defense Finance and Accounting Service, Freedom of Information/Privacy Act Program Manager, Corporate Communications and Legislative Liaison, 8899 E. 56th Street, Indianapolis, IN 46249-0150.

Individuals should furnish full name, Social Security Number, current address, telephone number.

Record Access Procedures:

Individuals seeking access to information about themselves contained in this system of records should address written inquiries to the Defense Finance and Accounting Service, Freedom of Information/Privacy Act Program Manager, Corporate Communications and Legislative Liaison, 8899 E. 56th Street, Indianapolis, IN 46249-0150.

Individuals should furnish full name, Social Security Number, current address, telephone number.

Contesting Record Procedures:

The DFAS rules for accessing records, for contesting contents and appealing initial agency determinations are published in DFAS Regulation 5400.11-R; 32 CFR part 324; or may be obtained from the Freedom of Information/Privacy Act Program Manager, Corporate Communications and Legislative Liaison, 8899 E. 56th Street, Indianapolis, IN 46249-0150.

Record Source Categories:

Individuals; school/school district offices; applicable Military Services; and the Defense Retiree and Annuitant (Pay) System (DRAS).

Exemptions Claimed for the System:

None.

[FR Doc. E9-18909 Filed 8-6-09; 8:45 am]

BILLING CODE 5001-06-P